SMALL BUSINESS ADMINISTRATION

SBIR/STTR Logo Design Competition Announcement; Correction

The Small Business Administration published a document in the Federal Register of May 5, 2015 (Vol. 80, No. 86, Pages 25763-25765), concerning the announcement of a competition to design a logo for the Small Business Innovation Research (SBIR) and Small Business Technology Transfer (STTR) Programs. This document was corrected (with scheduled publication of May 11, 2015) to reflect the fact that the competition was only going to be judged by SBA Officials and other SBIR/STTR Program Managers.

The initial and corrected documents did not include a monetary prize to be awarded to the winner. By way of this memo, SBA has made a determination that the document needs to be corrected again to include a prize of $2,500.

In the document printed on May 5, 2015, the first full sentence on page 25764 under the caption: “4. Prizes for Winners” did not include the mentioning of any monetary prize for the winner. This reference should be corrected and the sentence should read:

4. Prizes for Winners: The winning contestant will be awarded a $2,500 prize and the design will become the official logo for the SBIR/STTR Programs, the Programs' Web site at sbir.gov, and any official SBA, SBIR Program and/or STTR Program purpose.

John R. Williams,
Director, Office of Innovation and Technology.

[FR Doc. 2015-11697 Filed 5-14-15; 8:45 am]

BILLING CODE 8025-01-P